DEPARTMENT OF THE INTERIOR

Fish and Wildlife Service

[FWS-R4-R-2009-N150; 40136-1265-0000-S3]

Cross Creeks National Wildlife Refuge, Stewart County, TN

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for the environmental assessment for Cross Creeks National Wildlife Refuge (NWR). In the final CCP, we describe how we will manage this refuge for the next 15 years.

ADDRESSES: A copy of the CCP may be obtained by writing to: Mr. Richard Hines, Refuge Manager, Cross Creeks NWR, 643 Wildlife Road, Dover, TN 37058. The CCP may also be accessed and downloaded from the Service's Web site: http://southeast.fws.gov/planning/.

FOR FURTHER INFORMATION CONTACT: Mr. Mike Dawson; telephone: 601/965-4903, Extension 20; fax: 601/965-4010.

SUPPLEMENTARY INFORMATION:

Introduction

With this notice, we finalize the CCP process for Cross Creeks NWR. We started this process through a notice in the Federal Register on January 3, 2007 (72 FR 143). For more about the process, see that notice.

Cross Creeks NWR was established on November 9, 1962, when a Memorandum of Agreement between the Service and the U.S. Army Corps of Engineers (Corps) was signed. The creation of Cross Creeks NWR was mitigation for waterfowl habitat lost due to the flooding of the former Kentucky Woodlands NWR. This flooding occurred as a result of the creation of Lake Barkley Reservoir, a project of the Corps, in 1954. Public Land Order 4560 formally transferred land rights of Cross Creek NWR to the Service.

The refuge's name originates from the intersection of North Cross Creek and South Cross Creek on the refuge. Cross Creeks NWR currently is 8,862 acres in size. The mixture of open water, wetlands, woodlands, croplands, and grasslands creates a mosaic of wildlife-rich habitats. The refuge provides valuable wintering habitat for migrating waterfowl and bald eagles. It also provides habitat and protection for threatened and endangered species, such as gray bats, Indiana bats, and least terns.

Cross Creeks NWR stretches 12 miles on either side of the Lake Barkley Reservoir and the Cumberland River between the cities of Dover and Cumberland, Tennessee. This river creates a north side and a south side of the refuge. The reservoir and refuge are on the middle transition portion of the Cumberland River between Cheatham Dam and Barkley Dam. The Corps operates Lake Barkley “primarily for flood control, hydropower, and navigation, as well as secondary purposes of recreation, water quality, water supply, and fish and wildlife habitat.”

Multiple local roads cross the refuge, which receives approximately 45,000 visitors annually. Residents and non-residents generate $1.8 million in expenditures annually.

Cross Creeks NWR is in the Tennessee-Kentucky portion of the Mississippi Flyway. Peak wintering populations of ducks reached more than 108,000 in the mid-1990s. Recently, duck populations have peaked at 35,000-50,000. Canada geese peak wintering populations reached over 73,000 twice in the early to mid-1990s. However, recent wintering populations are 4,000-5,000, with an average of 15,000 during the period 1997-2003.

We announce our decision and the availability of the final CCP and FONSI for Cross Creeks NWR in accordance with the National Environmental Policy Act (NEPA) [40 CFR 1506.6(b)] requirements. We completed a thorough analysis of impacts on the human environment, which we included in the draft comprehensive conservation plan and environmental assessment (Draft CCP/EA). The CCP will guide us in managing and administering Cross Creeks NWR for the next 15 years. Alternative D is the foundation for the CCP.

The compatibility determinations for hunting, fishing, wildlife observation and photography, environmental education and interpretation, boating, and cooperative farming are also available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We solicited comments on the Draft CCP/EA for Cross Creeks NWR as announced in the Federal Register on May 1, 2009 (74 FR 20333). Five public comments were received.

Selected Alternative

After considering the comments we received and based on the professional judgment of the planning team, we selected Alternative D to implement the CCP. This alternative is judged to be the most effective management action for meeting the purposes of the refuge by optimizing habitat management and visitor services throughout the refuge. Over the life of the CCP, Alternative D will balance an enhanced wildlife management program, with increased opportunities for public use. Wildlife and habitat management, as well as public use activities, will increase under this alternative. Under this alternative, we will pursue the same five broad refuge goals as each of the other alternatives.

We will provide foraging habitats to meet the needs of 33,100 to 44,400 ducks (25 percent more than Alternative A) for 110 days and other habitats that are needed for loafing, roosting, molting, and other needs. We will also provide adequate foraging habitat to meet the needs of 15,400 migratory Canada geese for 90 days, but will evaluate the need for foraging habitat every 5 years and adjust accordingly. We will continue to provide sanctuary, as under Alternative A, backed up by increased enforcement to reduce illegal disturbance and trespass. In addition, we will seek opportunities for limited wildlife observation within the sanctuary. We will provide 20 to 50 properly located and maintained nesting boxes, brood rearing habitat, and feeding areas throughout the refuge.

We will determine the status of priority marsh bird species on the refuge. Alternative D also calls for determining the status of shorebirds on the refuge and implementing active shorebird management on at least one impoundment during fall migration. We will develop additional partnerships with other agencies, non-governmental organizations, and the public in efforts to inventory shorebirds, colonial nesting waterbirds, and landbirds, and to possibly assist in certain habitat management activities. Under Alternative D, development of a baseline colonial waterbird inventory through systematic surveys will occur. We will develop and implement baseline inventories for non-game mammals, reptiles, amphibians, and invertebrates.

We will manage game populations to maximize quality hunting opportunities while maintaining habitat for Federal trust species. We will continue to protect all Federally listed species under the Endangered Species Act and will use partners and volunteers (when necessary) to determine the distribution and abundance of all listed species. When necessary, control of invasive animal species using approved techniques to help achieve refuge conservation goals and objectives will occur.

Alternative D will focus water management within the impoundments on migratory birds for the duration of the CCP. We will accomplish this by providing adequate and reliable flooded habitat throughout the refuge and assuring that water management capability can distribute water in a timely manner. We will make a concerted effort to accommodate sport fishing opportunities where and when circumstances allow.

Alternative D calls for expanding efforts to improve the moist-soil management program on at least 300 acres by expanding the invasive plant control program, water management capabilities, and the use of management techniques that set back plant succession. We will also make a concerted effort to accommodate sport fishing opportunities where and when circumstances allow. Increasing the acreage of other habitats, such as mudflats, native submerged and emergent aquatic vegetation, flooded woodlands, beaver ponds, and open water that provides food resources, as well as habitats for loafing, resting, roosting, and molting, will occur under Alternative D.

We will develop and begin to implement a Forest Management Plan to benefit nesting and migratory birds. For the duration of the CCP, we will explore possibilities of managing for scrub-shrub habitat to benefit certain birds in suitable locations on the refuge. We will explore the potential benefits of planting and managing native warm season grasses on formerly farmed fields (up to 75 percent of existing cultivated acreage). Over the lifetime of the CCP, we will gradually phase out cooperative farming in favor of force-account or contract farming of wheat, corn, milo, and millet on 600 acres to meet wildlife foraging objectives.

We will control invasive species through active methods of removal. These methods will work towards reducing the infestation and eliminating populations whenever feasible. We will also extend control efforts to include Eurasian water milfoil and develop partnerships with other agencies, non-governmental organizations, and the public in these control efforts.

Within 5 years, we will draft, approve, and begin to implement a new Visitor Services Plan, using the current format as a guide. We will provide quality fishing and compatible water-related recreation programs on 3,260 acres of the refuge by furnishing adequate launching facilities, bank fishing areas, and, based on availability of funding, at least one ADA-compliant pier to accommodate anglers of all abilities. We will develop and begin to implement a Cultural Resources Management Plan.

Throughout the life of the CCP, we will manage game populations to maximize quality hunting opportunities while maintaining habitat for Federal trust species. We will continue to provide environmental education services to the public, including visits to schools, environmental education workshops, and onsite and offsite environmental education programs. However, we will also expand the refuge's role as an outdoor classroom both for students and the general public for Stewart and surrounding counties.

We will continue to offer opportunities for wildlife observation and photography throughout the refuge, accessible along the refuge road system from March 16 to November 14, but with the addition of a wildlife observation deck next to the visitor center. Within 5 years, we will explore the feasibility of building a wildlife observation tower near Pool 1. Also within 5 years, we will increase the number of wayside signs and add wildlife signs along the Woodpecker Interpretive Trail, as well as develop an interpretive kiosk at Elk Reservoir.

We will maintain the staff of nine fulltime employees, including the refuge manager, park ranger, office assistant, maintenance mechanic, assistant refuge manager, one forester to serve all Tennessee and Cumberland Rivers refuges, one biologist, one law enforcement officer, and one equipment operator. We will replace the now separate visitor center and headquarters with one common building. We will maintain the existing equipment fleet, replacing obsolete equipment as needed. We will add three portable toilets along the road system. Finally, we will install three pumps and will add farm and fire management equipment, such as corn planter, all-terrain vehicles, and pumper truck.

Authority: This notice is published under the authority of the National Wildlife Refuge System Improvement Act of 1997, Public Law 105-57.

Dated: August 6, 2009.
Michael L. Piccirilli,
Acting Regional Director.

[FR Doc. E9-26055 Filed 10-28-09; 8:45 am]

BILLING CODE 4310-55-P